FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
019297N | Premier Van Lines, Inc., 2208 Harmony Grove Road, Escondido, CA 92029 | December 17, 2010.
020826NF | New World Forwarding LLC, 8524 Highway 6 North, Suite 276, Houston, TX 77095 | December 14, 2010.
021268F | Scan Global Logistics, Inc., 650 Atlanta South Parkway, Suite 109, Atlanta, GA 30349 | January 15, 2011.
021504N | Onward Shipping & Clearing Service Inc., 2305 Oak Lane, Suite 201-B, Grand Prairie, TX 75051 | January 10, 2011.

Sandra L. Kusumoto,
Director, Bureau of Certification and Licensing.

[FR Doc. 2011-6871 Filed 3-22-11; 8:45 am]

BILLING CODE 6730-01-P